DEPARTMENT OF THE INTERIOR

Bureau of Land Management

[LLAK963000-L14300000-ET0000; AA-80005]

Public Land Order No. 7824; Extension of Public Land Order No. 7393; Alaska

AGENCY: Bureau of Land Management, Interior.

ACTION: Public Land Order.

SUMMARY: This order extends the duration of the withdrawal created by Public Land Order No. 7393, which was issued effective May 28, 1999, for an additional 15-year period. The extension is necessary to continue protection of the Spencer Glacier Material Site, which was established on behalf of the United States Forest Service in order to make high quality rock and gravel available from the site to nearby communities for private and public works projects.

DATES: Effective Date: May 28, 2014.

FOR FURTHER INFORMATION CONTACT: Robert L. Lloyd, BLM Alaska State Office, 222 West 7th Avenue, No. 13, Anchorage, Alaska 99513-7504. Persons who use a telecommunications device for the deaf (TDD) may call the Federal Information Relay Service (FIRS) at 1-800-877-8339 to contact either of the above individuals. The FIRS is available 24 hours a day, 7 days a week, to leave a message or question with the above individuals. You will receive a reply during normal business hours.

SUPPLEMENTARY INFORMATION: The purpose for which the withdrawal was first made requires this extension to continue to make high quality rock and gravel available for private and public works projects from the Spencer Glacier Material Site located in the Chugach National Forest. The withdrawal extended by this order will now expire on May 27, 2029, unless, as a result of a review conducted prior to the expiration date pursuant to Section 204(f) of the Federal Land Policy and Management Act of 1976, 43 U.S.C. 1714(f), the Secretary determines that the withdrawal shall be further extended.

Order

By virtue of the authority vested in the Secretary of the Interior by Section 204 of the Federal Land Policy and Management Act of 1976, 43 U.S.C. 1714, it is ordered as follows:

Public Land Order No. 7393 (64 FR 29064 (1999)), which withdrew approximately 600 acres of National Forest System land from location and entry under the United States mining laws to make high quality rock and gravel available from the Spencer Glacier Material Site to nearby communities for private and public works projects, is hereby extended for an additional 15-year period until May 27, 2029.

Dated: May 18, 2014.
Anne J. Castle,
Assistant Secretary—Water and Science.

[FR Doc. 2014-12500 Filed 5-28-14; 8:45 am]

BILLING CODE 3411-15-P